DEPARTMENT OF LABOR

Employment and Training Administration

[TA-W-62,661]

Agilent Technologies, Measurement Systems Division, Loveland, CO; Notice of Revised Determination on Reconsideration

On April 17, 2008, the Department issued an Affirmative Determination Regarding Application on Reconsideration applicable to workers and former workers of the subject firm. The notice was published in the Federal Register on April 25, 2008 (73 FR 22433-22434).

The previous investigation was initiated on January 11, 2008 and resulted in a negative determination issued on March 13, 2008. The finding revealed that the worker separations at the subject firm were attributed to a shift in production of automated X-ray inspection system prototypes (including software code and hardware design functions) to Malaysia, a country that is not a party to a free trade agreement nor a beneficiary country with the United States. The subject firm did not import automated X-ray inspection system prototypes (including software code and hardware design functions) following the shift in production to a foreign source. The denial notice was published in the Federal Register on February 29, 2008 (73 FR 11153).

The request for reconsideration alleges that Agilent Technologies may be in fact an importer of X-ray inspection systems and software.

Upon further contact with company official, it was revealed that the subject firm manufactured only software products during the relevant period. Based on new information it has been determined that the subject firm workers were impacted by a shift in production of software to Malaysia during the relevant period. The investigation also revealed that the firm recently increased their imports of software from Malaysia.

In accordance with Section 246 of the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that there was a shift in production from the workers' firm or subdivision to Malaysia of articles that are like or directly competitive with those produced by the subject firm or subdivision, and there has been or is likely to be an increase in imports of like or directly competitive articles. In accordance with the provisions of the Act, I make the following certification:

“All workers of Agilent Technologies, Measurement Systems Division, Loveland, Colorado, who became totally or partially separated from employment on or after January 10, 2007, through two years from the date of this certification, are eligible to apply for adjustment assistance under Section 223 of the Trade Act of 1974, and are also eligible to apply for alternative trade adjustment assistance under Section 246 of the Trade Act of 1974.”

Signed in Washington, DC, this 6th day of May 2008.
Elliott S. Kushner,
Certifying Officer, Division of Trade Adjustment Assistance.

[FR Doc. E8-10589 Filed 5-12-08; 8:45 am]

BILLING CODE 4510-FN-P